DEPARTMENT OF AGRICULTURE

Rural Utilities Service

Georgia Transmission Corporation; Notice of Finding of No Significant Impact

AGENCY: Rural Utilities Service, USDA.

ACTION: Notice of Finding of No Significant Impact.

SUMMARY: Notice is hereby given that the Rural Utilities Service (RUS) has made a finding of no significant impact with respect to a request from Georgia Transmission Corporation for financing assistance from RUS to finance the construction of a 230 kV transmission line in Heard, Douglas, and Carroll Counties, Georgia.

FOR FURTHER INFORMATION CONTACT: Bob Quigel, Environmental Protection Specialist, Engineering and Environmental Staff, RUS, Stop 1571, 1400 Independence Avenue, SW., Washington, DC 20250-1571, telephone (202) 720-0468, e-mail at bquigel@rus.usda.gov.

SUPPLEMENTARY INFORMATION: Georgia Transmission Corporation proposes to construct a 230 kV transmission line between its existing 230/115 kV Yellowdirt Switching Station located within the boundary of Plant Wansley in Heard County, Georgia, to the 230/115 kV Hickory Level Substation located approximately 1 mile south of Interstate 20 and 1.4 miles west of State Route 61 and is east of South Van Wert Road in Carroll County, Georgia. The length of the proposed transmission line is approximately 31 miles. The majority of the transmission line will parallel the existing 500 kV Plant Wansley to Villa Rica Transmission Line. The transmission line conductors will be supported by single concrete poles with an above ground height from 66 to 112 feet. The span between poles will vary from 300 to 1050 feet.

Copies of the Finding of No Significant Impact are available from RUS at the address provided herein or from Ms. Gayle Houston of Georgia Transmission Corporation, 2100 East Exchange Place, Tucker, Georgia 30085-2088 telephone (770) 270-7748. Ms. Houston's e-mail address is gayle.houston@gatrans.com.

Dated: August 8, 2003.
Blaine D. Stockton,
Assistant Administrator, Electric Program, Rural Utilities Service.

[FR Doc. 03-20761 Filed 8-13-03; 8:45 am]

BILLING CODE 3410-15-P